DEPARTMENT OF COMMERCE

National Oceanic and Atmospheric Administration

[RTID 0648-XE101]

Pacific Fishery Management Council; Public Meeting

AGENCY: National Marine Fisheries Service (NMFS), National Oceanic and Atmospheric Administration (NOAA), Commerce.

ACTION: Notice of a public online meeting.

SUMMARY: The Ecosystem-Based Management Subcommittee (SSC ES) of the Pacific Fishery Management Council's (Pacific Council) Scientific and Statistical Committee (SSC) will convene an online meeting to review the use of ecosystem risk evaluation tables and any other Ecosystem and Climate Information for Species, Fisheries, and Fishery Management Plan (Initiative 4) materials provided by the Council's Ecosystem Workgroup. In addition, they may review new analyses conducted by the NMFS California Current Integrated Ecosystem Assessment Team that may potentially inform future annual reports to the Pacific Council on the state of the California Current Ecosystem. The SSC ES meeting is open to the public.

DATES: The SSC ES meeting will be held Monday, August 5, 2024, from 1 p.m. until 5 p.m. (Pacific Time) or until business for the day has been completed.

ADDRESSES: This meeting will be conducted as an online meeting. Specific meeting information, including the agenda and directions on how to join the meeting and system requirements, will be provided in the workshop announcement on the Pacific Council's website (see www.pcouncil.org). You may send an email to Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414; email: marlene.bellman@noaa.gov.

SUPPLEMENTARY INFORMATION: The purpose of the SSC ES meeting is to review a methodological framework to incorporate ecosystem risk evaluation tables in the current Council process and any intersection with the SSC's scientific uncertainty buffers and stock category designations which result from the stock assessment process. Ecosystem risk evaluation tables were developed by the Council's Ecosystem Workgroup for several example groundfish species (i.e. sablefish and petrale sole), and the approach was reviewed by the SSC Ecosystem-Based Management and Groundfish Subcommittees in September 2023. At this meeting, the SSC ES will review any new developments to the risk table approach, including methodological frameworks for evaluating the ecosystem, assessment uncertainty, and population dynamics considerations the risk tables contain, and provide example applications for fisheries management. In March 2024, the Pacific Council also requested a retrospective analysis of how risk tables would have impacted decision-making in past groundfish assessments if they had been used in the manner currently envisioned. Sablefish was selected for a full assessment and petrale sole for a catch-only projection in the 2025 stock assessment cycle. Thus, the Subcommittee may focus on consideration or pathways for incorporation of these species risk tables in the upcoming stock assessment cycle and 2027-2028 harvest specification process.

In addition, they may review new analyses conducted by the NMFS California Current Integrated Ecosystem Assessment Team that may potentially inform future annual reports to the Pacific Council on the state of the California Current Ecosystem.

No management actions will be decided by the meeting participants. The participants' role will be development of recommendations and reports for consideration by the SSC and the Pacific Council at a future Council meeting. The Pacific Council and SSC are scheduled to consider the Ecosystem and Climate Information for Species, Fisheries, and Fishery Management Plan Initiative 4 at their September 2024 meeting in Spokane, WA, and to consider the California Current Ecosystem Status Report at their March 2025 meeting in Vancouver, WA.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Kris Kleinschmidt (kris.kleinschmidt@noaa.gov; (503) 820-2412) at least 10 days prior to the meeting date.

Authority: 16 U.S.C. 1801 et seq.

Dated: July 16, 2024.
Rey Israel Marquez,
Acting Deputy Director, Office of Sustainable Fisheries, National Marine Fisheries Service.

[FR Doc. 2024-15956 Filed 7-18-24; 8:45 am]

BILLING CODE 3510-22-P